DEPARTMENT OF LABOR

Employment and Training Administration

[TA-W-65,482]

Northeast Pellets, LLC; a Subsidiary of Fulghum Fibres, Ashland, ME; Notice of Termination of Investigation

Pursuant to Section 221 of the Trade Act of 1974, as amended, an investigation was initiated on March 4, 2009, in response to a worker petition filed by a company official on behalf of workers at Northeast Pellets, LLC, a subsidiary of Fulghum Fibres, Ashland, Maine.

The petitioner has requested that the petition be withdrawn. Consequently, the investigation has been terminated.

Signed at Washington, DC this 22nd day of May 2009.
Linda G. Poole,
Certifying Officer, Division of Trade Adjustment Assistance.

[FR Doc. E9-15286 Filed 6-26-09; 8:45 am]

BILLING CODE 4510-FN-P